DEPARTMENT OF TRANSPORTATION

Federal Aviation Administration

14 CFR Part 39

[Docket No. FAA-2021-0369; Project Identifier 2019-SW-033-AD]

RIN 2120-AA64

Airworthiness Directives; Airbus Helicopters

AGENCY: Federal Aviation Administration (FAA), DOT.

ACTION: Notice of proposed rulemaking (NPRM).

SUMMARY: The FAA proposes to adopt a new airworthiness directive (AD) for certain Airbus Helicopters Model AS350B, AS350BA, AS350B1, AS350B2, AS350B3, AS350D, AS355E, AS355F, AS355F1, AS355F2, AS355N, and AS355NP helicopters. This proposed AD was prompted by a report of reduced yaw control, during an approach for landing, that resulted from rupture of the tail rotor gearbox (TGB) actuating rod and uncoupling of the steel sleeve from inside the external aluminum tube. This proposed AD would require dye penetrant inspecting certain TGB actuating rods for a crack, and depending on the inspection results, replacing the TGB actuating rod, as specified in a European Union Aviation Safety Agency (EASA) AD, which is proposed for incorporation by reference (IBR). This proposed AD would also require marking each TGB actuating rod, reporting information, and, for certain helicopters, ensuring the correct interface between certain TGB actuating rods and bearings. The FAA is proposing this AD to address the unsafe condition on these products.

DATES: The FAA must receive comments on this proposed AD by July 2, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For material that is proposed for IBR in this AD, contact the EASA, Konrad-Adenauer-Ufer 3, 50668 Cologne, Germany; telephone +49 221 8999 000; email ADs@easa.europa.eu; internet www.easa.europa.eu. You may find this material on the EASA website at https://ad.easa.europa.eu. You may view this material at the FAA, Office of the Regional Counsel, Southwest Region, 10101 Hillwood Pkwy., Room 6N-321, Fort Worth, TX 76177. For information on the availability of this material at the FAA, call 817-222-5110. It is also available in the AD docket on the internet at https://www.regulations.gov by searching for and locating Docket No. FAA-2021-0369.

Examining the AD Docket

You may examine the AD docket on the internet at https://www.regulations.gov by searching for and locating Docket No. FAA-2021-0369; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: Kathleen Arrigotti, Program Manager, Large Aircraft Section, International Validation Branch, Compliance & Airworthiness Division, FAA, 2200 South 216th St., Des Moines, WA 98198; telephone and fax (206) 231-3218; email kathleen.arrigotti@faa.gov.

SUPPLEMENTARY INFORMATION:

Comments Invited

The FAA invites you to send any written relevant data, views, or arguments about this proposal. Send your comments to an address listed under ADDRESSES. Include “Docket No. FAA-2021-0369; Project Identifier 2019-SW-033-AD” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this proposal.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Kathleen Arrigotti, Program Manager, Large Aircraft Section, International Validation Branch, Compliance & Airworthiness Division, FAA, 2200 South 216th St., Des Moines, WA 98198; telephone and fax (206) 231-3218; email kathleen.arrigotti@faa.gov. Any commentary that the FAA receives that is not specifically designated as CBI will be placed in the public docket for this rulemaking.

Discussion

The EASA, which is the Technical Agent for the Member States of the European Union, has issued EASA AD 2019-0060, dated March 20, 2019 (EASA AD 2019-0060) (also referred to as the Mandatory Continuing Airworthiness Information, or the MCAI), to correct an unsafe condition for all Airbus Helicopters Model AS 350 B, AS 350 BA, AS 350 BB, AS 350 B1, AS 350 B2, AS 350 B3, AS 350 D, AS 355 E, AS 355 F, AS 355 F1, AS 355 F2, AS 355 N and AS 355 NP helicopters. Model AS 350 BB helicopters are not certificated by the FAA and are not included on the U.S. type certificate data sheet; this proposed AD therefore does not include those helicopters in the applicability. Although EASA AD 2019-0060 applies to all helicopters identified in EASA AD 2019-0060, this proposed AD applies to helicopters with an affected part installed instead.

This proposed AD was prompted by a report of reduced yaw control, during an approach for landing of an AS 350 helicopter, that resulted from rupture of the TGB actuating rod and uncoupling of the steel sleeve from inside the external aluminum tube. Model AS355E, AS355F, AS355F1, AS355F2, AS355N, and AS355NP helicopters are affected due to design similarity of installed TGB actuating rods. The FAA is proposing this AD to address failure of a TGB actuating rod, which could result in loss of yaw control of the helicopter. See the MCAI for additional background information.

Related Service Information Under 1 CFR Part 51

EASA AD 2019-0060 describes procedures for dye penetrant inspecting certain TGB actuating rods for a crack, and depending on the inspection results, replacing the TGB actuating rod. EASA AD 2019-0060 also describes procedures for marking each TGB actuating rod, reporting information, and for certain helicopters, ensuring the correct interface between certain TGB actuating rods and bearings.

This material is reasonably available because the interested parties have access to it through their normal course of business or by the means identified in the ADDRESSES section.

FAA's Determination and Requirements of This Proposed AD

These products have been approved by the aviation authority of another country, and are approved for operation in the United States. Pursuant to the bilateral agreement with the State of Design Authority, the FAA has been notified of the unsafe condition described in the MCAI referenced above. The FAA is proposing this AD after evaluating all the relevant information and determining the unsafe condition described previously is likely to exist or develop in other products of these same type designs.

Proposed AD Requirements

This proposed AD would require accomplishing the actions specified in EASA AD 2019-0060, described previously, as incorporated by reference, except for any differences identified as exceptions in the regulatory text of this proposed AD.

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities (CAAs) to use this process. As a result, EASA AD 2019-0060 will be incorporated by reference in the FAA final rule. This proposed AD would, therefore, require compliance with EASA AD 2019-0060 in its entirety, through that incorporation, except for any differences identified as exceptions in the regulatory text of this proposed AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2019-0060 that is required for compliance with EASA AD 2019-0060 will be available on the internet at https://www.regulations.gov by searching for and locating Docket No. FAA-2021-0369 after the FAA final rule is published.

Differences Between This Proposed AD and the MCAI

EASA AD 2019-0060 specifies “AS350 SB [service bulletin] No. 67.10 Revision 1” and “AS355 SB No. 67.09 Revision 2” as Airbus Helicopters (AH) service bulletins; however this proposed AD identifies those service bulletins as Aerospatiale service bulletins.

EASA AD 2019-0060 specifies the date for “AS355 SB No. 67.09 Revision 2,” as “March 28, 1989;” however, this proposed AD identifies the date as “October 1989.”

Part Marking Clarification

Where paragraph (2) of EASA AD 2019-0060 specifies “mark each affected part (all rods, regardless of the status with respect to the dye penetrant inspection),” this proposed AD would require marking TGB actuating rods identified in paragraphs (c)(1) through (9) of this proposed AD regardless of their manufacturing date. The manufacturing dates in Table 1 of EASA AD 2019-0060 are used only to indicate the parts on which the dye penetrant inspection specified in paragraph (1) of EASA AD 2019-0060 is done; the manufacturing dates do not impact the parts on which the marking specified in paragraph (2) of EASA AD 2019-006 must be done.

Interim Action

The FAA considers this proposed AD interim action. If final action is later identified, the FAA might consider further rulemaking then.

Costs of Compliance

The FAA estimates that this proposed AD affects 950 helicopters of U.S. registry. The FAA estimates the following costs to comply with this proposed AD:

Estimated Costs for Required Actions *
Labor cost | Parts cost | Cost per product | Cost on U.S. operators
6 work-hours × $85 per hour = $510 | $0 | $510 | $484,500
* Table does not include estimated costs for reporting.

The FAA estimates that it would take about 1 hour per product to comply with the proposed reporting requirement in this proposed AD. The average labor rate is $85 per hour. Based on these figures, the FAA estimates the cost of reporting the inspection results on U.S. operators to be $80,750, or $85 per product.

The FAA estimates the following costs to do any necessary on-condition actions that would be required based on the results of any required actions. The FAA has no way of determining the number of helicopters that might need these on-condition actions:

Estimated Costs of On-Condition Actions
Labor cost | Parts cost | Cost per product
Up to 16 work-hours X $85 per hour = $1,360 | $2,590 | Up to $3,950.

Paperwork Reduction Act

A federal agency may not conduct or sponsor, and a person is not required to respond to, nor shall a person be subject to penalty for failure to comply with a collection of information subject to the requirements of the Paperwork Reduction Act unless that collection of information displays a current valid OMB control number. The control number for the collection of information required by this proposed AD is 2120-0056. The paperwork cost associated with this proposed AD has been detailed in the Costs of Compliance section of this document and includes time for reviewing instructions, as well as completing and reviewing the collection of information. Therefore, all reporting associated with this proposed AD is mandatory. Comments concerning the accuracy of this burden and suggestions for reducing the burden should be directed to Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters: Docket No. FAA-2021-0369; Project Identifier 2019-SW-033-AD.

(a) Comments Due Date

The FAA must receive comments by July 2, 2021.

(b) Affected Airworthiness Directives (ADs)

None.

(c) Applicability

This AD applies to Airbus Helicopters Model AS350B, AS350BA, AS350B1, AS350B2, AS350B3, AS350D, AS355E, AS355F, AS355F1, AS355F2, AS355N, and AS355NP helicopters, certificated in any category, with a tail rotor gearbox (TGB) actuating rod identified in paragraphs (c)(1) through (9) of this AD installed.

(1) Part number (P/N) 350A27191000;

(2) P/N 350A27191001;

(3) P/N 350A27191002;

(4) P/N 350A27191003;

(5) P/N 350A27191004;

(6) P/N 350A2719100401;

(7) P/N 350A2719100402;

(8) P/N 350A27192000; or

(9) A TGB actuating rod with an unknown part number and serial number.

(d) Subject

Joint Aircraft System Component (JASC) Code: 6720, Tail Rotor Control System.

(e) Reason

This AD was prompted by a report of reduced yaw control, during an approach for landing, that resulted from rupture of the TGB actuating rod and uncoupling of the steel sleeve from inside the external aluminum tube. The FAA is issuing this AD to address failure of a TGB actuating rod, which could result in loss of yaw control of the helicopter.

(f) Compliance

Comply with this AD within the compliance times specified, unless already done.

(g) Requirements

Except as specified in paragraph (h) of this AD: Comply with all required actions and compliance times specified in, and in accordance with, European Union Aviation Safety Agency (EASA) AD 2019-0060, dated March 20, 2019 (EASA AD 2019-0060).

(h) Exceptions to EASA AD 2019-0060

(1) Where EASA AD 2019-0060 refers to January 3, 2019 (the effective date of EASA AD 2018-0287, dated December 20, 2018), or its effective date, this AD requires using the effective date of this AD.

(2) Where EASA AD 2019-0060 refers to flight hours (FH), this AD requires using hours time-in-service.

(3) Where paragraph (2) of EASA AD 2019-0060 specifies to mark TGB actuating rods, replace the language in paragraph (2) of EASA AD 2019-0060 that states “the instructions of section 3 of the applicable ASB [alert service bulletin],” with the applicable language specified in paragraphs (h)(3)(i) and (ii) of this AD.

(i) For P/N 350A2719100402 and parts not included in table 1 of EASA AD 2019-0060: “the instructions for `If only paragraph 3.B.2.a. was complied with' of paragraph 3.C. of the Accomplishment Instructions of the applicable ASB.”

(ii) For parts included in table 1 of EASA AD 2019-0060: “the instructions for `If paragraph 3.B.2.b. or paragraph 3.B.5. was complied with' of paragraph 3.C. of the Accomplishment Instructions of the applicable ASB.”

(4) Where paragraph (2) of EASA AD 2019-0060 specifies “mark each affected part (all rods, regardless of the status with respect to the dye penetrant inspection), and each TGB rod having P/N 350A2719100402,” for this AD, mark the parts identified in paragraphs (c)(1) through (9) of this AD.”

(5) Where EASA AD 2019-0060 specifies “AH [Airbus Helicopters] AS350 SB [service bulletin] No. 67.10 Revision 1” and “AH AS355 SB No. 67.09 Revision 2,” replace the text “AH” with “Aerospatiale.”

(6) Where the “Ref. Publications” section of EASA AD 2019-0060 specifies the date for “AS355 SB No. 67.09 Revision 2,” replace the text “28 March 1989” with “October 1989.”

(7) Although service information referenced in EASA AD 2019-0060 specifies to keep parts, this AD does not include that requirement.

(8) Paragraph (7) of EASA AD 2019-0060 specifies to report inspection results to Airbus Helicopters within a certain compliance time. For this AD, report inspection results at the applicable time specified in paragraph (h)(8)(i) or (ii) of this AD.

(i) If the inspection was done on or after the effective date of this AD: Submit the report within 30 days after the inspection.

(ii) If the inspection was done before the effective date of this AD: Submit the report within 30 days after the effective date of this AD.

(9) For the purposes of this AD, “CW,” which is stated in Table 1 of EASA AD 2019-0060, is defined as calendar week.

(10) The “Remarks” section of EASA AD 2019-0060 does not apply to this AD.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to: Manager, International Validation Branch, FAA, 10101 Hillwood Pkwy., Fort Worth, TX 76177; telephone (817) 222-5110. Information may be emailed to: 9-AVS-AIR-730-AMOC@faa.gov.

(2) Before using any approved AMOC, notify your appropriate principal inspector, or lacking a principal inspector, the manager of the local flight standards district office/certificate holding district office.

(j) Related Information

(1) For EASA AD 2019-0060, contact the EASA, Konrad-Adenauer-Ufer 3, 50668 Cologne, Germany; telephone +49 221 8999 000; email ADs@easa.europa.eu; internet www.easa.europa.eu. You may find this EASA AD on the EASA website at https://ad.easa.europa.eu. You may view this material at the FAA, Office of the Regional Counsel, Southwest Region, 10101 Hillwood Pkwy., Room 6N-321, Fort Worth, TX 76177. For information on the availability of this material at the FAA, call 817-222-5110. This material may be found in the AD docket on the internet at https://www.regulations.gov by searching for and locating Docket No. FAA-2021-0369.

(2) For more information about this AD, contact Kathleen Arrigotti, Program Manager, Large Aircraft Section, International Validation Branch, Compliance & Airworthiness Division, FAA, 2200 South 216th St., Des Moines, WA 98198; telephone and fax (206) 231-3218; email kathleen.arrigotti@faa.gov.

Issued on May 11, 2021.
Ross Landes,
Deputy Director for Regulatory Operations, Compliance & Airworthiness Division, Aircraft Certification Service.

[FR Doc. 2021-10353 Filed 5-17-21; 8:45 am]

BILLING CODE 4910-13-P